DEPARTMENT OF COMMERCE

International Trade Administration

[A-570-831]

Notice of Amended Final Results of Antidumping Duty Administrative Review: Garlic from the People's Republic of China

AGENCY: Import Administration, International Trade Administration, Department of Commerce.

SUMMARY: On June 13, 2005, the Department of Commerce (“the Department”) published the final results of its administrative review of the antidumping duty order on fresh garlic from the People's Republic of China (“PRC”) for the period from November 1, 2002, through October 31, 2003, in the Federal Register. See Final Results of Antidumping Duty Administrative Review: Fresh Garlic from the People's Republic of China, 69 FR 34082, and accompanying “Issues and Decision Memorandum,” dated June 6, 2005 (“Final Results”). We released the disclosure documents to the respondents on June 14, 2005, and to the petitioners¹ on June 16, 2005. On June 20, 2005, the following parties filed timely allegations that the Department made various ministerial errors in the Final Results: Jinan Yipin Corporation Ltd. (“Jinan Yipin”), Linshu Dading Private Agricultural Co., Ltd. (“Linshu Dading”), Sunny Import and Export Co., Ltd. (“Sunny”), Taian Fook Huat Tong Kee Foodstuffs Co., Ltd. (“FHTK”), Taiyan Ziyang Food Co., Ltd. (“Ziyang”), and Zhengzhou Harmoni Spice Co., Ltd. (“Harmoni”). On June 23, 2005, the petitioners submitted rebuttal comments to one of the ministerial error allegations filed collectively by Jinan Yipin, Linshu Dading, Sunny, and Harmoni. In addition, when examining the ministerial error allegations raised by FHTK and Ziyang, the Department found other ministerial errors. Ziyang and FHTK filed complaints with the Court of International Trade (“CIT”), challenging the final results of review on June 14, and June 15, 2005, respectively. On July 26, 2005, Harmoni, Jinan Yipin, Linshu Dading, and Sunny filed similar complaints with the CIT, challenging the final results of review. On August 9 and August 10, 2005, Jinxiang Dongyun Freezing Storage Co. Ltd. and the petitioners, respectively, also filed complaints with the CIT, challenging the final results of review. When the interested parties noted above filed their complaints with the CIT the Department no longer had jurisdiction to correct the ministerial errors. Therefore, the Department requested leave from the CIT to correct these errors. On September 15, 2005, the CIT granted the Department leave to correct the errors.

¹ The Fresh Garlic Producers Association and its individual members (Christopher Ranch L.L.C., The Garlic Company, Valley Garlic, and Vessey and Company, Inc).

We are amending our Final Results to correct ministerial errors for respondents Jinan Yipin, Linshu Dading, FHTK, Ziyang, and Harmoni pursuant to section 751(h) of the Tariff Act of 1930, as amended (“the Act”).

EFFECTIVE DATE: September 28, 2005.

FOR FURTHER INFORMATION CONTACT: Sochieta Moth, Import Administration, International Trade Administration, U.S. Department of Commerce, 14th Street and Constitution Avenue NW, Washington, DC 20230; telephone: (202) 482-0168.

SUPPLEMENTARY INFORMATION:

Scope of the Order

The products covered by this antidumping duty order are all grades of garlic, whole or separated into constituent cloves, whether or not peeled, fresh, chilled, frozen, provisionally preserved, or packed in water or other neutral substance, but not prepared or preserved by the addition of other ingredients or heat processing. The differences between grades are based on color, size, sheathing, and level of decay.

The scope of this order does not include the following: (a) garlic that has been mechanically harvested and that is primarily, but not exclusively, destined for non-fresh use; or (b) garlic that has been specially prepared and cultivated prior to planting and then harvested and otherwise prepared for use as seed.

The subject merchandise is used principally as a food product and for seasoning. The subject garlic is currently classifiable under subheadings 0703.20.0010, 0703.20.0020, 0703.20.0090, 0710.80.7060, 0710.80.9750, 0711.90.6000, and 2005.90.9700 of the Harmonized Tariff Schedule of the United States (“HTSUS”). Although the HTSUS subheadings are provided for convenience and customs purposes, our written description of the scope of this order is dispositive. In order to be excluded from the antidumping duty order, garlic entered under the HTSUS subheadings listed above that is (1) mechanically harvested and primarily, but not exclusively, destined for non-fresh use or (2) specially prepared and cultivated prior to planting and then harvested and otherwise prepared for use as seed must be accompanied by declarations to the U.S. Customs and Border Protection (“CBP”) to that effect.

Amendment to Final Determination

In accordance with sections 751(a) and 777(i)(1) of the Act, on June 13, 2005, the Department published the Final Results. On June 20, 2005, the following parties filed timely allegations that the Department made various ministerial errors in the Final Determination: Jinan Yipin, Linshu Dading, Sunny Import and Export Co., Ltd. (“Sunny”), FHTK, Ziyang, and Harmoni. On June 23, 2005, the petitioners submitted rebuttal comments to one of the ministerial error allegations filed by Jinan Yipin, Linshu Dading, Sunny, and Harmoni.

After analyzing all interested parties' comments and rebuttal comments, we have determined, in accordance with section 751(h) of the Act and 19 CFR 351.224(e), that the Department has made ministerial errors in the final determination calculations for Harmoni, Jinan Yipin, Linshu Dading, FHTK, and Ziyang. In addition, when examining FHTK's and Ziyang's ministerial error allegations, the Department found additional ministerial errors that affected our margin calculations in the Final Results. For a detailed discussion of these ministerial errors, and our analysis, see Memorandum from Barbara E. Tillman to Joseph A. Spetrini re: Issues and Decision Memorandum for the Amended Final Determination in the Administrative Review on Fresh Garlic from the People's Republic of China, dated September 22, 2005 (“Amended Final Issues and Decision Memorandum”), and the company-specific amended final determination analysis memoranda dated September 22, 2005.

Therefore, in accordance with section 751(h) of the Act, we are amending the final determination of sales at less than fair value in the antidumping duty administrative review of fresh garlic from the PRC for the period November 1, 2002, through October 31, 2003. The revised weighted-average dumping margins are listed in the “Amended Final Results of Review” section below.

Amended Final Results of Review

As a result of correcting the ministerial errors discussed in the Amended Final Issues and Decision Memorandum, the amended weighted-average dumping margins for FHTK, Harmoni, Jinan Yipin, Linshu Dading, and Ziyang are as follows:

Company | Weighted-Average Margin
FHTK | 19.68%
Harmoni | 14.20%
Jinan Yipin | 15.92%
Linshu Dading | 10.78%
Ziyang | 15.09%

Duty Assessment and Cash Deposit Requirements

The Department will determine, and CBP shall assess, antidumping duties on all appropriate entries. The Department will issue appropriate assessment instructions directly to CBP within 15 days of publication of the amended final results of this review, where injunctions are not in place.

Further, the following cash-deposit requirements will be effective upon publication of these final amended results of the administrative review for shipments of the subject merchandise entered, or withdrawn from warehouse, for consumption on or after the publication date of these final amended results, as provided by section 751(a)(2)(C) of the Act: (1) for subject merchandise exported by FHTK, Harmoni, Jinan Yipin, Linshu Dading, and Ziyang, the cash-deposit rate will be that established in these amended final results of review; (2) for all other PRC exporters of subject merchandise which have not been found to be entitled to a separate rate, the cash-deposit rate will be the PRC-wide rate of 376.67 percent; (3) for all non-PRC exporters of subject merchandise, the cash-deposit rate will be the rate applicable to the PRC supplier of that exporter. These deposit requirements shall remain in effect until publication of the final results of the next administrative review.

These final amended results of administrative review and notice are issued and published in accordance with sections 751(a)(1), 751(h) and 777(i)(1) of the Act.

Dated: September 22, 2005.
Joseph A. Spetrini,
Acting Assistant Secretary for Import Administration.

[FR Doc. 05-19362 Filed 9-27-05; 8:45 am]

BILLING CODE 3510-DS-S